DEPARTMENT OF HEALTH AND HUMAN SERVICES

Meeting of the National Vaccine Advisory Committee

AGENCY: National Vaccine Program Office, Office of the Assistant Secretary for Health, Office of the Secretary, Department of Health and Human Services.

ACTION: Notice of a teleconference meeting.

SUMMARY: As stipulated by the Federal Advisory Committee Act, the Department of Health and Human Services (HHS) is hereby giving notice that the National Vaccine Advisory Committee (NVAC) will be holding a special meeting. This meeting will be held utilizing a means of virtual technology; the meeting will be conducted as an audio telephone conference call. The meeting will be open to the public. Individuals may call in to attend this virtual meeting. A public comment session will be provided. Participation in this meeting is limited to 60 people. Therefore, pre-registration is required for both public participation and comment. Individuals who wish to participate in the meeting by audio telephone conference call and/or provide public comment should pre-register by sending an email to nvpo@hhs.gov or calling (202) 690-5566. Individuals will be required to provide their name, organization, and email address to pre-register. The meeting agenda will be posted on the NVAC Web site at http://www.hhs.gov/nvpo/nvac as soon as it becomes available.

DATES: The meeting will be held on Friday, June 21, 2013, from 11:00 a.m. to 12:00 p.m. EDT. This meeting will be conducted utilizing a means of virtual technology only.

ADDRESSES: This meeting will be conducted only by audio conference call.

FOR FURTHER INFORMATION CONTACT: National Vaccine Program Office, Department of Health and Human Services, Hubert H. Humphrey Building, 200 Independence Avenue SW., Washington, DC 20201. Telephone: (202) 690-5566; Fax: (202) 690-4631; Email address: nvpo@hhs.gov.

SUPPLEMENTARY INFORMATION: Pursuant to Section 2102 of the Public Health Service Act (42 U.S.C. 300aa-1), the Secretary of Health and Human Services was mandated to establish the National Vaccine Program (NVP) to achieve optimal prevention of human infectious diseases through immunization and to achieve optimal prevention against adverse reactions to vaccines. NVAC was established to provide advice and make recommendations to the Director of NVP on matters related to the program's responsibilities. The Assistant Secretary for Health (ASH) serves as Director of the NVP.

NVAC met on June 11-13, 2013. The Committee's discussion included its intent to deliberate and vote on advice to be given to the ASH on the proposed rule from the Centers for Medicare and Medicaid Services (CMS) to remove the Immunization for Pneumonia Measure (IMM-1) from the Inpatient Quality Reporting Program. The comment period for the proposed rule ends on June 25, 2013. NVAC is not scheduled to meet again before the end of the comment period for the proposed rule. Therefore, it has been decided that a special meeting should be convened for the NVAC to develop and discuss recommendations to be submitted to the ASH on the proposed rule. The proposed rule is printed in the Federal Register, Vol. 78. No. 91, Friday, May 10, 2013, pp. 27486-27823. It is also available at https://www.federalregister.gov/articles/2013/05/10/2013-10234/medicare-program-hospital-inpatient-prospective-payment-systems-for-acute-care-hospitals-and-the:

Audio participation in this meeting is available to the public. The following information is provided for individuals who wish to participate in this meeting by telephone: Toll free number for calls originating in the United States: 1-888-677-1385; Toll free number for calls originating outside the United States: 1-312-470-7133; the passcode for all originating calls is 8094285.

Please note that this special meeting is being held only to provide opportunity for the NVAC to provide recommendations to the ASH on comments to be given to CMS on the proposed rule. A decision was made at the meeting most recently held by NVAC on June 11-12, 2013, that the Committee should make recommendations to the ASH on the proposed rule. Comments on the proposed rule are due to be submitted to CMS no later than June 25, 2013. The number of days between the recent NVAC meeting and the due date for the comments to CMS is less than 15 days. Therefore, notice to the public about the NVAC being convened for this specific purpose could not be published in the Federal Register, as required by the Federal Advisory Committee Act, 15 days prior to the date the special meeting is scheduled to be held.

Dated: June 19, 2013.
Bruce Gellin,
Director, National Vaccine Program Office, and Executive Secretary, National Vaccine Advisory Committee.

[FR Doc. 2013-14996 Filed 6-21-13; 8:45 am]

BILLING CODE 4150-44-P